CONSUMER PRODUCT SAFETY COMMISSION

16 CFR Part 1500

Correction to Internal Citation of “Extremely Flammable Solid” and “Flammable Solid”

AGENCY: Consumer Product Safety Commission.

ACTION: Final rule.

SUMMARY: The Consumer Product Safety Commission (“CPSC,” “Commission,” or “we”) is amending its regulations concerning exemptions for small packages, minor hazards, and special circumstances to correct internal citations to the definitions of “extremely flammable solid” and “flammable solid” in our regulations.

DATES: This rule is effective on August 13, 2010.

FOR FURTHER INFORMATION CONTACT: Mary A. House, Office of the General Counsel, Consumer Product Safety Commission, 4330 East West Highway, Bethesda, Maryland 20814, e-mail: mhouse@cpsc.gov.

SUPPLEMENTARY INFORMATION: The Commission's regulations at 16 CFR 1500.83 titled “Exemptions for small packages, minor hazards, and special circumstances” cite to the definitions of “extremely flammable solid” and “flammable solid” contained in 16 CFR 1500.3(c)(6) in several subsections. The definitions of “extremely flammable solid” and “flammable solid” were originally codified at 16 CFR 1500.3(c)(6)(iii) and (iv), respectively. In 1986, the Commission amended the definitions of “extremely flammable,” “flammable,” and “combustible” hazardous substances contained in 16 CFR 1500.3(c)(6), 51 FR 28529 (Aug. 8., 1986), to align with the definitions used by other federal agencies. This 1986 amendment moved the definitions of “extremely flammable solid” and “flammable solid” to 16 CFR 1500.3(c)(6)(v) and (vi), respectively. The cross-references to these definitions contained in 16 CFR 1500.83, however, were not updated at that time. This amendment corrects this oversight by updating the references to the definitions of “extremely flammable solid” and “flammable solid” in the following subsections: 1500.83(a)(2), 1500.83(a)(3), 1500.83(a)(4), and 1500.83(a)(18).

List of Subjects in 16 CFR Part 1500

Consumer protection, Hazardous materials, Hazardous substances, Imports, Infants and children, Labeling, Law enforcement, Toys.

Conclusion

For the reasons discussed the Commission amends 16 CFR part 1500 to read as follows:

PART 1500—[AMENDED]

1. The authority citation for part 1500 continues to read as follows:

Authority: 15 U.S.C. 1261-1277.

2. In § 1500.83, revise paragraphs (a)(2), (a)(3), (a)(4), and (a)(18) introductory text to read as follows:

§ 1500.83 Exemptions for small packages, minor hazards, and special circumstances.

(a) * * *

(2) Common matches, including book matches, wooden matches, and so-called “safety” matches are exempt from the labeling requirements of section 2(p)(1) of the act (repeated in § 1500.3(b)(14)(i)) insofar as they apply to the product being considered hazardous because of being an “extremely flammable solid” or “flammable solid” as defined in § 1500.3(c)(6)(v) and (vi).

(3) Paper items such as newspapers, wrapping papers, toilet and cleansing tissues, and paper writing supplies are exempt from the labeling requirements of section 2(p)(1) of the act (repeated in § 1500.3(b)(14)(i)) insofar as they apply to the products being considered hazardous because of being an “extremely flammable solid” or “flammable solid” as defined in § 1500.3(c)(6)(v) and (vi).

(4) Thread, string, twine, rope, cord, and similar materials are exempt from the labeling requirements of section 2(p)(1) of the act (repeated in § 1500.3(b)(14)(i)) insofar as they apply to the products being considered hazardous because of being an “extremely flammable solid” or “flammable solid” as defined in Sec. 1500.3(c)(6)(v) and (vi).

* * * * *

(18) Packages containing articles intended as single-use spot removers, and which consist of a cotton pad or other absorbent material saturated with a mixture of drycleaning solvents, are exempt from the labeling requirements of section 2(p)(1) of the act (repeated in § 1500.3(b)(14)(i)) insofar as they apply to the “flammable solid” hazard as defined in § 1500.3(c)(6)(vi), provided that:

* * * * *

Dated: August 10, 2010.
Todd A. Stevenson,
Secretary, United States Consumer Product Safety Commission.

[FR Doc. 2010-20063 Filed 8-12-10; 8:45 am]

BILLING CODE 6355-01-P